DEPARTMENT OF AGRICULTURE

Animal and Plant Health Inspection Service

[Docket No. APHIS-2019-0072]

Notice of Request for Revision to and Extension of Approval of an Information Collection; Introduction of Organisms and Products Altered or Produced Through Genetic Engineering

ACTION: Revision to and extension of approval of an information collection; comment request.

SUMMARY: In accordance with the Paperwork Reduction Act of 1995, this notice announces the Animal and Plant Health Inspection Service's intention to request a revision to and extension of approval of an information collection associated with the regulations for the introduction of organisms and products altered or produced through genetic engineering.

DATES: We will consider all comments that we receive on or before December 24, 2019.

ADDRESSES: You may submit comments by either of the following methods:

• Federal eRulemaking Portal: Go to http://www.regulations.gov/#!docketDetail;D=APHIS-2019-0072.

• Postal Mail/Commercial Delivery: Send your comment to Docket No. APHIS-2019-0072, Regulatory Analysis and Development, PPD, APHIS, Station 3A-03.8, 4700 River Road, Unit 118, Riverdale, MD 20737-1238.

Supporting documents and any comments we receive on this docket may be viewed at http://www.regulations.gov/#!docketDetail;D=APHIS-2019-0072 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information regarding the regulations for the introduction of organisms and products altered or produced through genetic engineering, contact Ms. Cynthia A. Eck, Document Control Officer, Communications Group, BRS, APHIS, 4700 River Road, Unit 146, Riverdale, MD 20737; (301) 851-3892. For more detailed information on the information collection, contact Mr. Joseph Moxey, APHIS' Information Collection Coordinator, at (301) 851-2483.

SUPPLEMENTARY INFORMATION:

Title: 7 CFR part 340; Introduction of Organisms and Products Altered or Produced Through Genetic Engineering.

OMB Control Number: 0579-0085.

Type of Request: Revision to and extension of approval of an information collection.

Abstract: Under the Plant Protection Act (PPA, 7 U.S.C. 7701 et seq.), the Secretary of Agriculture is authorized to prohibit or restrict the importation, entry, or movement in interstate commerce of any plant, plant product, biological control organism, noxious weed, article, or means of conveyance, if the Secretary determines that the prohibition or restriction is necessary to prevent the introduction or the dissemination of a plant pest into the United States.

Under this authority, the U.S. Department of Agriculture's Animal and Plant Health Inspection Service (APHIS) has established regulations in 7 CFR part 340, “Introduction of Organisms and Products Altered or Produced Through Genetic Engineering Which Are Plant Pests or Which There is Reason to Believe Are Plant Pests,” that govern the introduction (importation, interstate movement, or release into the environment) of covered genetically engineered organisms and products (“regulated articles”). A permit must be obtained or a notification acknowledged before a regulated article may be introduced. The regulations set forth the permit application requirements and the notification procedures for the introduction of a regulated article and necessitate certain activities including APHIS-issued permits, petitions, appeals, labeling containers, applicants' field testing records, documentation for approved training programs, submission of protocols to ensure compliance, memorandums of understanding, grants, and recordkeeping.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.48 hours per response.

Respondents: State and Tribal government agricultural representatives and applicants from agricultural companies.

Estimated annual number of respondents: 483.

Estimated annual number of responses per respondent: 18.

Estimated annual number of responses: 8,780.

Estimated total annual burden on respondents: 12,983 hours. (Due to averaging, the total annual burden hours may not equal the product of the annual number of responses multiplied by the reporting burden per response.)

All responses to this notice will be summarized and included in the request for OMB approval. All comments will also become a matter of public record.

Done in Washington, DC, this 21st day of October 2019.
Kevin Shea,
Administrator, Animal and Plant Health Inspection Service.

[FR Doc. 2019-23344 Filed 10-24-19; 8:45 am]

BILLING CODE 3410-34-P